NUCLEAR REGULATORY COMMISSION

10 CFR Parts 1, 2, 7, 9, 19, 20, 26, 30, 31, 33, 39, 50, 51, 52, 54, 55, 71, 75, 100 and 110

RIN 3150-AH01

NRC Public Document Room Address Change and Corrections to Information Collection Provisions; Correction

AGENCY: Nuclear Regulatory Commission.

ACTION: Final rule; correction.

SUMMARY: This document corrects a document appearing in the Federal Register on November 4, 2002 (67 FR 67096) (FR Doc. 02-27865). This action is necessary to correct an erroneous amendatory instruction and typographical errors.

DATES: November 27, 2002.

FOR FURTHER INFORMATION CONTACT: Michael T. Lesar, Office of Administration, Washington, DC 20555-0001, telephone 301-415-7163, e-mail mtl@nrc.gov.

SUPPLEMENTARY INFORMATION:

§ 1.5 [Corrected]

1. On page 67097, right column, paragraph (3), second line, “Il.” is corrected to read “IL”.

§ 7.2 [Corrected]

2. On page 67098, in the center column, amendatory instruction 11 is corrected to read as follows:

“11. Section 7.2 is amended as follows:

a. In § 7.2, the paragraph designations are removed.

In the definition of “Advisory committee”, paragraph (1), last sentence, the phrase “(c)(3) of this section” is revised to read “(3) of this definition.”; in paragraph (2), first sentence, the phrase “(c)(1) of this section” is revised to read “(1) of this definition”; in paragraph (3), last sentence, the phrase “(c)(1) of this section:” is revised to read “(1) of this definition:”.

b. The definition for NRC Public Document Room is revised to read as follows:

§ 110.2 [Corrected]

3. On page 67101, right column, second paragraph, fourth line, insert a comma between “Rockville” and “Maryland”.

4. On page 67101, right column, second paragraph, 29th line, the telephone number “301-315-4737” is corrected to read “301-415-4737”.

Dated at Rockville, Maryland, this 19th day of November, 2002.
For the Nuclear Regulatory Commission.
Alzonia W. Shepard,
Acting Chief, Rules and Directives Branch, Division of Administrative Services, Office of Administration.

[FR Doc. 02-29874 Filed 11-26-02; 8:45 am]

BILLING CODE 7590-01-P